ENVIRONMENTAL PROTECTION AGENCY

[FRL—9953-80-OW]

Information Session; Implementation of the Water Infrastructure Finance and Innovation Act of 2014

AGENCY: Environmental Protection Agency (EPA).

ACTION: Notice.

SUMMARY: The Environmental Protection Agency (EPA) is announcing plans to hold information sessions on: October 14, 2016 in Chicago, Illinois; October 20, 2016 in Orlando, Florida; November 7, 2016 in New York, New York; November 14, 2016 in San Francisco, California; November 15, 2016 in Los Angeles, California; and November 18, 2016 in Dallas, Texas.

The purpose of these sessions is to provide potential applicants with information about the implementation of the “Water Infrastructure Finance and Innovation Act of 2014” (WIFIA).

Under WIFIA, EPA will provide loans and loan guarantees for water infrastructure of national or regional significance. It was signed into law on June 11, 2014 as Public Law 113-121. EPA will provide an overview of the program's statutory and eligibility requirements, application and selection process, and creditworthiness assessment. It will also discuss examples of the potential cost-savings that WIFIA credit assistance could have for projects. The intended audience is potential WIFIA applicants including municipal entities, corporations, partnerships, and State Revolving Fund programs, as well as the private and non-governmental organizations that support potential applicants.

DATES: The session in Chicago, Illinois will be held on October 14, 2016 from 9:00 a.m.-3:30 p.m. (CT). The session in Orlando, Florida will be held on October 20, 2016 from 9:00 a.m.-3:30 p.m. (ET). The session in New York, New York will be held on November 7, 2016 from 9:00 a.m.-3:30 p.m. (ET). The session in San Francisco, California will be held on November 14, 2016 from 9:00 a.m.-3:30 p.m. (PT). The session in Los Angeles, California will be held on November 15, 2016 from 9:00 a.m.-3:30 p.m. (PT). The session in Dallas, Texas will be held on November 18, 2016 from 9:00 a.m.-3:30 p.m. (CT).

ADDRESSES: The session in Chicago will be held at: Ralph H. Metcalfe Federal Building, Room 328, 77 West Jackson Boulevard, Chicago, Illinois 60604. The session in Orlando will be held at: Orange County Utilities Administration Building, 1st Floor Public Meeting Room, 9150 Curry Ford Road, Orlando, Florida 32825. The session in New York will be held at: EPA Region 2, 290 Broadway, New York, New York 10007. The session in San Francisco will be held at: EPA Region 9, 75 Hawthorne St., San Francisco, California 94105. The session in Los Angeles will be held at: Los Angeles Federal Building, Room E, 300 North Los Angeles Street, Los Angeles, California 90012. The session in Dallas will be held at: EPA Region 6, Fountain Place, 1445 Ross Ave., Dallas, Texas 75202.

TO REGISTER: Please register at the following link: http://wifia.questionpro.com/.

FOR FURTHER INFORMATION CONTACT: For further information about this notice, including registration information, contact Karen Fligger, EPA Headquarters, Office of Water, Office of Wastewater Management at tel.: 202-564-2992; or email: WIFIA@epa.gov. Members of the public are invited to participate in the session as capacity allows.

Authority: Water Infrastructure Finance and Innovation Act, Public Law 113-121.

Dated: September 30, 2016.
Andrew D. Sawyers,
Director, Office of Wastewater Management.

[FR Doc. 2016-24377 Filed 10-6-16; 8:45 am]

BILLING CODE 6560-50-P